DEPARTMENT OF COMMERCE

International Trade Administration

[A-427-816, A-533-817, C-533-818, A-560-805, C-560-806, A-475-826, C-475-827, A-588-847, A-580-836, C-580-837]

Certain Cut-To-Length Carbon-Quality Steel Plate from France, India, Indonesia, Italy, Japan and Korea; Extension of Final Results of Expedited Sunset Reviews of the Antidumping and Countervailing Duty Orders

AGENCY: Import Administration, International Trade Administration, Department of Commerce

SUMMARY: The Department of Commerce (“the Department”) is extending the time limit for its final results in the expedited sunset reviews of the antidumping and countervailing duty orders on certain cut-to-length carbon-quality steel plate (“CTL plate”) from France, India, Indonesia, Italy, Japan and Korea. As a result of this extension, the Department intends to issue final results of this sunset review on or about August 1, 2005.

EFFECTIVE DATE: May 3, 2005.

FOR FURTHER INFORMATION CONTACT: Martha Douthit at (202) 482-5050 or Hilary Sadler, Esq. at (202) 482-4340, Import Administration, International Trade Administration, U.S. Department of Commerce, 14th Street & Constitution Avenue, NW., Washington, DC 20230.

SUPPLEMENTARY INFORMATION:

Extension of Final Results:

On January 3, 2005, the Department initiated sunset reviews of the antidumping and countervailing duty orders on CTL plate from France, India, Indonesia, Italy, Japan and Korea. See Initiation of Five-year (Sunset) Reviews, 70 FR 75 (January 3, 2005). Based on adequate responses from the domestic interested parties and inadequate responses from respondent interested parties, the Department is conducting expedited sunset reviews to determine whether revocation of the antidumping and countervailing duty orders on CTL plate would lead to the continuation or recurrence of dumping or a countervailable subsidy. The Department's final results of these reviews were scheduled for May 3, 2005; however, the Department needs additional time for its analysis.

In accordance with section 751(c)(5)(B) of the Tariff Act of 1930, as amended (“the Act”), the Department may extend the period of time for making its final determination in a sunset review by not more than 90 days, if it determines that the review is extraordinarily complicated. As set forth in 751(c)(5)(C), the Department may, among other reasons, treat a sunset review as extraordinarily complicated if: (i) There are a large number of issues, (ii) the issues to be considered are complex or (iii) there are a large number of firms involved. In these proceedings, one or more of these reasons apply. Specifically, the sunset reviews of the four countervailing duty orders on CTL plate contain a large number of complex issues, including privatization, directed credit and section 129 implementation, while the sunset reviews of the six antidumping duty orders include complex issues related to the appropriate margins likely to prevail if the orders were revoked and, in some instances, involve a large number of companies. The Department has determined, pursuant to section 751(c)(5)(C) of the Act that the sunset reviews of the antidumping and countervailing duty orders of CTL plate from France, India, Indonesia, Italy, Japan and Korea are extraordinarily complicated and require additional time for the Department to complete its analysis. Therefore, the Department will extend the deadlines in these proceedings, and, as a result, intends to issue the final results of the sunset reviews of the antidumping and countervailing duty orders of CTL plate from France, India, Indonesia, Italy, Japan and Korea on or about August 1, 2005, 90 days from the original scheduled date of the final results of these reviews. This notice is issued and published in accordance with sections 751(c)(5)(B) and (C) of the Act.

Dated: April 25, 2005.
Barbara E. Tillman,
Acting Deputy Assistant Secretary for Import Administration.

[FR Doc. E5-2143 Filed 5-2-05; 8:45 am]

BILLING CODE 3510-DS-S